DEPARTMENT OF LABOR

Office of Disability Employment Policy

Proposed Information Collection Request

AGENCY: Department of Labor (DOL).

ACTION: Notice.

SUMMARY: The U.S. Department of Labor, as part of its continuing effort to reduce paperwork and respondent burden, conducts a pre-clearance consultation program to provide the general public and federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the Office of Disability Employment Policy (ODEP) of the Department of Labor (DOL) is soliciting comments concerning the proposed collection of information for the Retaining Employment and Talent After Injury/Illness Network (RETAIN) Demonstration Projects and Evaluation.

A copy of the proposed information collection request (ICR) can be obtained by contacting the office listed below in the ADDRESSES section of this notice.

DATES: Submit comments on or before August 21, 2018.

ADDRESSES: Submit written comments to the Office of Disability Employment Policy, Room S-1303, 200 Constitution Avenue NW, Washington, DC 20210, Attention: Juston Locks, Workforce Research Analyst, Division of Policy Planning and Research.

Telephone number: (202) 693-7880.

Fax: (202) 693-7888.

Email: locks.juston@dol.gov.

Instructions: Please submit one copy of your comments by only one method. All submissions received must include the agency name and collection name identified above for this information collection. Because we continue to experience delays in receiving mail in the Washington, DC area, commenters are strongly encouraged to transmit their comments electronically via email or to submit them by mail early. Comments, including any personal information provided, become a matter of public record. They will be summarized and/or included in the request for Office of Management and Budget approval of the information collection request.

FOR FURTHER INFORMATION CONTACT: Juston Locks, Workforce Research Analyst, Division of Policy Planning & Research, Office of Disability Employment Policy, U.S. Department of Labor, Room S-1303, 200 Constitution Avenue NW, Washington, DC 20210; telephone (202) 693-7880 (this is not a toll free number). Copies of this notice may be obtained in alternative formats (Large print, Braille, Audio Tape, or Disc), upon request by calling (202) 693-7880 (this is not a toll-free number). TTY/TTD callers may dial (202) 693-7881 to obtain information or to request materials in alternative formats.

SUPPLEMENTARY INFORMATION:

I. Background

In FY 2018, the Department of Labor and the Social Security Administration are collaborating to develop and test promising stay-at-work/return-to-work (SAW/RTW) early intervention strategies and evaluate outcomes for individuals who are at risk of experiencing work disability.¹ Each year, millions of American workers leave the workforce after experiencing an injury or illness.² The Occupational Safety and Health Administration (OSHA) estimates that 4 million nonfatal work-related injuries and illnesses occur annually, and the National Safety Council (NSC) estimates that there were over 14 million nonfatal, off-the-job injuries and illnesses in 2014 alone.³ According to NSC, over three times as many injuries requiring medical attention occur off-the-job compared to those that occur on-the-job. Indeed, some experts estimate that non-occupational injuries and illnesses are roughly eight times as common as occupational ones.⁴ Hundreds of thousands of these workers go on to receive state or federal disability benefits.⁵ The socio-economic impacts of these injuries and illnesses on individuals, employers, and all levels of government can be significant and long-lasting.

¹ For the purposes of RETAIN, the term “work disability” is defined as an illness, injury, or medical condition that has the potential to inhibit or prevent continued employment or labor force participation, and “federal disability benefits” refers specifically to the Social Security Disability Insurance (SSDI) and Supplemental Security Income (SSI) programs. See https://www.ssa.gov/disability/ for more information on SSDI and SSI.

² Bardos, Maura, Hannah Burak, and Yonatan Ben-Shalom. “Assessing the Costs and Benefits of Return-to-Work Programs.” Final report submitted to the U.S. Department of Labor, Office of Disability Employment Policy. Washington, DC: Mathematica Policy Research, March 2015.

³ U.S. Department of Labor, Occupational Safety and Health Administration, 2012, “Injury and Illness Prevention Programs White Paper.” Available online at <https://www.osha.gov/dsg/InjuryIllnessPreventionProgramsWhitePaper.html>. and National Safety Council. 2016, “Injury Facts, 2016 Edition.” Itasca, IL: Author.

⁴ Neuhauser, F. 2016. “The Myth of Workplace Injuries: or Why We Should Eliminate Workers' Compensation for 90% of Workers and Employers.” IAIABC Perspectives. Accessed online at https://www.iaiabc.org/iaiabc/Perspectives.asp.

⁵ Social Security Administration, “Annual Statistical Report on the Social Security Disability Insurance Program, 2016.” SSA Publication No. 13-11826. Washington, DC: Social Security Administration, October 2017.

SAW/RTW programs succeed by returning injured workers to productive work as soon as medically possible by providing interim part-time or light duty work and accommodations, as necessary. The RETAIN Demonstration Projects are modeled after promising programs currently operating in Washington State, including the Centers of Occupational Health and Education (COHE),⁶ the Early Return to Work (ERTW),⁷ and the Stay at Work programs.⁸ While these programs operate within the state's workers' compensation system and are available only to individuals experiencing work-related injuries or illnesses, the RETAIN Demonstration Projects provide opportunities to improve SAW/RTW outcomes for individuals with both occupational and non-occupational injuries and illnesses.

⁶ http://www.lni.wa.gov/ClaimsIns/Providers/ProjResearchComm/OHS/default.asp.

⁷ http://www.lni.wa.gov/ClaimsIns/Insurance/Injury/LightDuty/Ertw/Default.asp.

⁸ http://lni.wa.gov/Main/StayAtWork/.

The primary goals of the RETAIN Demonstration Projects are:

1. To increase employment retention and labor force participation of individuals who acquire, and/or are at risk of developing, work disabilities; and

2. To reduce long-term work disability among project participants, including the need for federal disability benefits (i.e., Social Security Disability Insurance [SSDI] and Supplemental Security Income [SSI]).

The ultimate purpose of the demonstration is to validate and bring to scale evidence-based strategies to accomplish these goals.

By September 2018, up to eight states will receive funding through a cooperative agreement to create systems changes by developing and implementing partnerships and strategies to test the effects of the provision of comprehensive, coordinated health and employment-related services and supports to injured or ill workers who have acquired, or are at risk of developing, a work disability. Awards will be made in two phases. In Phase 1, up to eight states will receive awards to complete start-up activities and launch a small pilot. In Phase 2, up to four of those states will receive awards to scale up their pilot to full implementation. Only Phase 1 awardees will be eligible to compete for Phase 2 awards.

The purpose of the RETAIN employee participant information collection is to understand and assess RETAIN program start-up, pilot projects, and full implementation.

II. Review Focus

DOL is interested in comments that:

• Evaluate whether the proposed collection of information is necessary, and whether the information will have practical utility;

• evaluate the accuracy of the agency's estimate of the burden of the proposed collection of information, including the validity of the methodology and assumptions used;

• enhance the quality, utility, and clarity of the information to be collected; and

• minimize the burden of the collection of information on those who are to respond.

III. Current Actions

Agency: Department of Labor, Office of Disability Employment Policy.

Title: Retaining Employment and Talent After Injury/Illness Network (RETAIN) Demonstration Projects Baseline Data Collection and Reporting.

Baseline Employee Participant Data Collection

Total Respondents (Employee Participants): 10,667.

Years 1-3 Total Respondents: 4,000 + 16,000 + 12,000 = 32,000.

Average Annual Respondents: 32,000 / 3 = 10,667.

Frequency: Rolling basis.

Average Time per Response: Once pilots are launched and throughout implementation, RETAIN employee participants will spend approximately 20 minutes (0.33 hour) submitting baseline information at the time of enrollment.

Estimated Total Burden Hours: The cumulative hours of burden due to the baseline employee participant data collection is approximately 1,320 hours in the first year (zero hours for the first three quarters and 1,320 in the fourth quarter) and approximately 5,280 hours in the second year and approximately 3,960 hours in the third year. This is an average of 3,520 hours of burden per year.

Estimated Hours of Burden Due to Baseline Participant Data Collection—Years 1-3
Awardee | Employee participants: Number of respondents | Employee participants: Hours/ response
State 1 | 7,000 | 0.33
State 2 | 7,000 | 0.33
State 3 | 7,000 | 0.33
State 4 | 7,000 | 0.33
State 5 | 1,000 | 0.33
State 6 | 1,000 | 0.33
State 7 | 1,000 | 0.33
State 8 | 1,000 | 0.33
Year 1, Qtrs 1-3 Total | 0 | 0
Year 1, Qtr 4 Total | 4,000 | 1,320
*Year 2, Qtrs 1 and 2 Total | 4,000 | 1,320
*Year 2, Qtrs 3 and 4 | 12,000 | 3,960
**Year 3 | 12,000 | 3,960
Three-year total | 32,000 | 10,560
* Year 2 will include six months of the pilot for eight states and six months of full implementation for the four states competitively selected for Phase 2 awards.
** In Year 3, the full 12 months will focus on full-scale implementation in the four Phase 2 states.

This information collection is subject to the PRA. A federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Comments submitted in response to this Notice will be summarized and/or included in the request for Office of Management and Budget approval of the ICR; they will also become a matter of public record.

Signed: at Washington, DC, this 15th day of June 2018.
Jennifer Sheehy,
Deputy Assistant Secretary, Office of Disability Employment Policy.

[FR Doc. 2018-13437 Filed 6-21-18; 8:45 am]

BILLING CODE 4510-27-P